DEPARTMENT OF ENERGY

Federal Energy Regulatory Commission

[Project No. 2589-095]

Marquette Board of Light and Power; Notice of Application Accepted for Filing and Soliciting Comments, Motions To Intervene, and Protests

Take notice that the following hydroelectric application has been filed with the Commission and is available for public inspection.

a. Type of Application: Request for a Temporary Variance of Flow and Reservoir Elevation Requirements.

b. Project No.: 2589-095.

c. Dates Filed: May 26, 2023.

d. Applicant: Marquette Board of Light and Power (licensee).

e. Name of Project: Marquette Hydroelectric Project.

f. Location: The project is located on the Dead River, near the City of Marquette, in Marquette County, Michigan. The project does not occupy federal lands.

g. Filed Pursuant to: Federal Power Act, 16 U.S.C. 791(a)-825(r).

h. Applicant Contact: Thomas J. Skewis, Environmental Compliance, Marquette Board of Light and Power, 2200 Wright Street, Marquette, MI 49855, (906) 225-8670, tskewis@mblp.

i. FERC Contact: Aneela Mousam, (202) 502-8357, aneela.mousam@ferc.gov.

j. Deadline for filing comments, motions to intervene, and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. The first page of any filing should include docket number P-2589-095.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. Description of Request: The licensee requests Commission approval for a temporary variance of the minimum powerhouse flow and reservoir elevation requirements outlined in license articles 403 and 404. The purpose of the variance request is to accommodate controls upgrade and minor maintenance at the Forestville powerhouse (No. 2 Development), scheduled to take place for a duration of 6-10 weeks in June-July 2023. To facilitate the controls upgrade, the licensee plans to take both hydro units offline. Prior to taking the hydro units offline, the licensee would gradually reduce the powerhouse flows ¹ to allow the reservoir elevation to exceed the maximum allowable limit (771.0 feet), and overflow the spillway ² to prevent areas within the river channel from drying up before suspending the powerhouse flows.

¹ 40 cubic feet per second.

² The overflow spillway has a crest elevation of 771.4 feet.

For the duration of the planned upgrades, the licensee would provide flows ³ from the spillway to the river by allowing the reservoir elevation to exceed the spillway crest elevation of 771.4 feet. Once the project upgrades are complete, the licensee would place the hydro units online and lower the reservoir level to meet the license requirements. The licensee would work closely with the relevant resource agencies to prevent any adverse environmental effects from occurring prior to, during, and after the temporary variance.

³ The flows would be run of the river.

l. In addition to publishing the full text of this document in the Federal Register, the Commission provides all interested persons an opportunity to view and/or print the contents of this document via the internet through the Commission's Home Page (http://ferc.gov) using the “eLibrary” link. Enter the docket number excluding the last three digits in the docket number field to access the document. For assistance, contact FERC at FERCOnlineSupport@ferc.gov or call toll-free, (886) 208-3676 or TYY, (202) 502-8659.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE”, or “PROTEST” as applicable; (2) set forth in the heading the name of the applicant and the project number(s) of the application to which the filing responds; (3) furnish the name, address, and telephone number of the person intervening or protesting; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 2, 2023.
Kimberly D. Bose,
Secretary.

[FR Doc. 2023-12239 Filed 6-7-23; 8:45 am]

BILLING CODE 6717-01-P